ENVIRONMENTAL PROTECTION AGENCY

40 CFR Part 52

[EPA-R08-OAR-2010-0406; FRL-9807-4]

Approval and Promulgation of Implementation Plans; North Dakota; Regional Haze State Implementation Plan; Federal Implementation Plan for Interstate Transport of Pollution Affecting Visibility and Regional Haze; Reconsideration; Announcement of Public Hearings

AGENCY: Environmental Protection Agency (EPA).

ACTION: Notice of public hearings; extension of comment period.

SUMMARY: On March 15, 2013, EPA initiated reconsideration of its approval of North Dakota's best available retrofit technology (BART) emission limits for nitrogen oxides (NOX) for Milton R. Young Station Units 1 and 2 and Leland Olds Station Unit 2, which are coal-fired power plants in North Dakota. EPA is holding public hearings on May 15, 2013 to accept written and oral comments on this proposed action. The comment period for this action was scheduled to close on May 14, 2013. EPA is extending the comment period to June 17, 2013 to allow for a full 30-day public comment period for the submission of additional public comment following the public hearings.

DATES: The comment period for the proposed rule published March 15, 2013 at 78 FR 16452, is extended. Comments must be received on or before June 17, 2013. The public hearings will be held on May 15, 2013.

ADDRESSES: The public hearings will be held at the North Dakota Department of Health, Environmental Training Center, 2639 East Main Avenue, Bismarck, ND 58506.

FOR FURTHER INFORMATION CONTACT: Gail Fallon, EPA Region 8, Mailcode 8P-AR, 1595 Wynkoop Street, Denver, CO 80202-1129, (303) 312-6281, Fallon.Gail@epa.gov.

SUPPLEMENTARY INFORMATION: On March 15, 2013, we published a proposed rule initiating reconsideration of EPA's approval of North Dakota's BART emission limits for NOX for Milton R. Young Station Units 1 and 2 and Leland Olds Station Unit 2, which are coal-fired power plants in North Dakota. See 78 FR 16452. Public hearings will be held on Wednesday, May 15, 2013, from 3 p.m. until 5 p.m., and again from 6 p.m. until 8 p.m.

The public hearings will provide interested parties the opportunity to present information and opinions to EPA concerning our proposal. Interested parties may also submit written comments, as discussed in the proposal. Written statements and supporting information submitted during the comment period will be considered with the same weight as any oral comments and supporting information presented at the public hearings. We will not respond to comments during the public hearings. When we publish our final action, we will provide written responses to all oral and written comments received on our proposal.

At the public hearings, the hearing officer may limit the time available for each commenter to address the proposal to five minutes or less if the hearing officer determines it to be appropriate. The limitation is to ensure that everyone who wants to make comments has the opportunity to do so. We will not be providing equipment for commenters to show overhead slides or make computerized slide presentations. Any person may provide written or oral comments and data pertaining to our proposal at the public hearings. Verbatim transcripts, in English, of the hearings and written statements will be included in the rulemaking docket.

List of Subjects in 40 CFR Part 52

Environmental protection, Air pollution control, Incorporation by reference, Intergovernmental relations, Ozone, Particulate matter, Reporting and recordkeeping requirements, Volatile organic compounds.

Dated: April 12, 2013.
Howard M. Cantor,
Acting Regional Administrator, Region 8.

[FR Doc. 2013-09949 Filed 4-25-13; 8:45 am]

BILLING CODE 6560-50-P